NATIONAL SCIENCE FOUNDATION

Advisory Committee for Engineering; Notice of Meeting

In accordance with the Federal Advisory Committee Act (Pub. L. 92-463, as amended), the National Science Foundation (NSF) announces the following meeting:

Name and Committee Code: Advisory Committee for Engineering #1170.

Date and Time: October 21, 2021; 11:00 a.m. to 6:00 p.m.

Place: National Science Foundation, 2415 Eisenhower Avenue, Alexandria, Virginia 22314 | Virtual.

Type of Meeting: Open.

Contact Person: Evette Rollins, erollins@nsf.gov; 703-292-8300; NSF, 2415 Eisenhower Avenue, Alexandria, VA 22314.

The forthcoming virtual meeting information and an updated agenda will be posted at https://www.nsf.gov/events/event_summ.jsp?cntn_id=303095&org=ENG.

Purpose of Meeting: To provide advice, recommendations and counsel on major goals and policies pertaining to engineering programs and activities.

Agenda

Thursday, October 21, 2021

• Directorate for Engineering Report

• NSF Budget Update

• Reports from Advisory Subcommittees and Liaisons

• Partnerships Presentation and Discussion

• Discussion with the NSF Office of the Director

Dated: September 21, 2021.
Crystal Robinson,
Committee Management Officer.

[FR Doc. 2021-20752 Filed 9-23-21; 8:45 am]

BILLING CODE 7555-01-P